DEPARTMENT OF TRANSPORTATION

Federal Aviation Administration

14 CFR Part 71

[Docket No. FAA-2023-1325; Airspace Docket No. 23-AGL-17]

RIN 2120-AA66

Amendment of VOR Federal Airway V-36 and Establishment of RNAV Route T-675; Northcentral United States

AGENCY: Federal Aviation Administration (FAA), DOT.

ACTION: Final rule, delay of effective date.

SUMMARY: This action delays the effective date of a final rule published in the Federal Register on October 19, 2023, amending Very High Frequency Omnidirectional Range (VOR) Federal Airway V-36 and establishing Canadian Area Navigation (RNAV) Route T-675 in the northcentral United States (U.S.) airspace. The FAA is delaying the effective date to allow sufficient time for completion of the required flight inspection of the route.

DATES: The effective date of the final rule published on September 22, 2023 (88 FR 65311), with an effective date of November 30, 2023, delayed on October 19, 2023 (88 FR 71990) to March 21, 2024, is delayed to May 16, 2024. The Director of the Federal Register approved this incorporation by reference action under 1 CFR part 51, subject to the annual revision of FAA Order JO 7400.11 and publication of conforming amendments.

FOR FURTHER INFORMATION CONTACT: Colby Abbott, Rules and Regulations Group, Office of Policy, Federal Aviation Administration, 800 Independence Avenue SW, Washington, DC 20591; telephone: (202) 267-8783.

SUPPLEMENTARY INFORMATION:

Background

The FAA published a final rule in the Federal Register for Docket No. FAA-2023-1325 on September 22, 2023 (88 FR 65311), effective November 30, 2023, amending VOR Federal Airway V-36 and establishing Canadian RNAV Route T-675 in the northcentral U.S. airspace. On October 19, 2023 (88 FR 71990), the FAA delayed the effective date for that final rule to March 21, 2024. After the October 19, 2023, final rule was published, the FAA determined that the required flight inspection for the establishment, certification, and publication of T-675 was not completed due to adverse weather conditions.

The FAA expects the required flight inspection for Canadian RNAV Route T-675 will be completed by May 16, 2024; therefore, the rule amending VOR Federal Airway V-36 and establishing Canadian RNAV Route T-675 within US airspace is delayed to coincide with that date.

Incorporation by Reference

VOR Federal airways are published in paragraph 6010(a) and Canadian Area Navigation routes (T-routes) are published in paragraph 6013 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available online at www.faa.gov/air_traffic/publications/. You may also contact the Rules and Regulations Group, Office of Policy, Federal Aviation Administration, 800 Independence Avenue SW, Washington, DC 20591; telephone: (202) 267-8783.

FAA Order JO 7400.11H lists Class A, B, C, D, and E airspace areas, air traffic service routes, and reporting points.

Good Cause for No Notice and Comment

Section 553(b)(3)(B) of Title 5, United States Code, (the Administrative Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the brief length of the extension of the effective date and the fact that there is no substantive change to the rule.

Delay of Effective Date

Accordingly, pursuant to the authority delegated to me, the effective date of the final rule, Airspace Docket 23-AGL-17, published in the Federal Register on September 22, 2023 (88 FR 65311), FR Doc. 2023-20449, with an effective date of November 30, 2023, delayed on October 19, 2023 (88 FR 71990), FR Doc. 2023-22993, to March 21, 2024, is hereby delayed until May 16, 2024.

Authority: 49 U.S.C. 106(f), 106(g); 40103, 40113, 40120; E.O. 10854, 24 FR 9565, 3 CFR, 1959-1963 Comp., P. 389.

Issued in Washington, DC, on January 16, 2024.
Frank Lias,
Manager, Airspace and Rules Group.

[FR Doc. 2024-01043 Filed 1-19-24; 8:45 am]

BILLING CODE 4910-13-P